DEPARTMENT OF TRANSPORTATION

Office of the Secretary

Notice of Applications for Certificates of Public Convenience and Necessity and Foreign Air Carrier Permits Filed Under Subpart B (Formerly Subpart Q) during the Week Ending February 3, 2006

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: OST-2006-23863

Date Filed: February 3, 2006.

Due Date for Answers, Conforming Applications, or Motion To Modify Scope: February 24, 2006.

Description: Application of Luzair-Transportes Aereos, S.A. requesting a foreign air carrier permit authorizing it to engage in charter foreign air transportation of persons, property and mail between a point or points in Portugal and a point or points in the United States and between points in the United States and points in third countries as authorized by and in accordance with the provisions of the “Open Skies” Air Transport agreement entered into by the Governments of Portugal and the United States.

Renee V. Wright,
Program Manager, Docket Operations, Federal Register Liaison.

[FR Doc. E6-2539 Filed 2-22-06; 8:45 am]

BILLING CODE 4910-62-P